DEPARTMENT OF COMMERCE

National Oceanic and Atmospheric Administration

50 CFR Part 622

[Docket No. 160906822-7547-02; RTID 0648-XB566]

Snapper-Grouper Fishery of the South Atlantic; 2021 Commercial Accountability Measure and Closure of the Georgia, South Carolina, and North Carolina Hogfish Stock in the South Atlantic

AGENCY: National Marine Fisheries Service (NMFS), National Oceanic and Atmospheric Administration (NOAA), Commerce.

ACTION: Temporary rule; closure.

SUMMARY: NMFS implements accountability measures (AMs) applicable to the commercial harvest of hogfish in the South Atlantic exclusive economic zone (EEZ) off Georgia, South Carolina, and North Carolina (Georgia-North Carolina) for the 2021 fishing year through this temporary rule. NMFS estimates that commercial landings of the Georgia-North Carolina hogfish stock have reached the sector's annual catch limit (ACL). Therefore, NMFS closes the commercial sector for the Georgia-North Carolina hogfish stock on November 10, 2021. This closure is necessary to protect the hogfish resource.

DATES: This rule is effective 12:01 a.m., local time, November 10, 2021, until 12:01 a.m., local time, January 1, 2022.

FOR FURTHER INFORMATION CONTACT: Mary Vara, NMFS Southeast Regional Office, telephone: 727-824-5305, email: mary.vara@noaa.gov.

SUPPLEMENTARY INFORMATION: The snapper-grouper fishery of the South Atlantic includes hogfish and is managed under the Fishery Management Plan for the Snapper-Grouper Fishery of the South Atlantic Region (FMP). The FMP was prepared by the South Atlantic Fishery Management Council and is implemented by NMFS under the authority of the Magnuson-Stevens Fishery Conservation and Management Act (Magnuson-Stevens Act) by regulations at 50 CFR part 622.

On August 24, 2017, NMFS implemented management measures for hogfish through a final rule for Amendment 37 to the FMP (82 FR 34584; July 25, 2017). For South Atlantic hogfish, that final rule set management and AMs as two stocks: Georgia, South Carolina, and North Carolina (Georgia-North Carolina), and Florida Keys/East Florida (Florida Keys-East Florida). It also specified fishing levels and AMs for those stocks, according to each sector. The commercial inseason AM for Georgia-North Carolina states that if commercial landings reach or are projected to reach the commercial ACL, then the commercial sector will be closed for the remainder of the fishing year (50 CFR 622.193(u)(1)(i)(A)).

The commercial ACL for the Georgia-North Carolina hogfish stock is 23,456 lb (10,639 kg), round weight (50 CFR 622.193(u)(1)(iii)(A)). The NMFS Southeast Fisheries Science Center indicates that the commercial ACL for the Georgia-North Carolina hogfish stock has been reached. Therefore, this temporary rule implements an AM to close the commercial sector of the Georgia-North Carolina hogfish stock for the remainder of the 2021 fishing year. As a result, the 2021 commercial harvest for the Georgia-North Carolina hogfish stock in Federal waters of the South Atlantic EEZ will be closed effective 12:01 a.m., local time, November 10, 2021. During the closure, the recreational bag and possession limits for the Georgia-North Carolina hogfish stock in or from South Atlantic Federal waters is two fish per person, per day.

All sale or purchase of hogfish in or from Federal waters of the South Atlantic off Georgia, South Carolina, and North Carolina is prohibited, and harvest or possession of this species is limited to the bag and possession limits while the recreational sector is open. These bag and possession limits apply to the Georgia-North Carolina hogfish stock on board a vessel for which a valid Federal commercial or charter vessel/headboat permit for South Atlantic snapper-grouper has been issued, without regard to where such species were harvested, i.e., in state or Federal waters (50 CFR 622.193(u)(1)(i)(A)).

Commercial harvest for the 2022 fishing year for the Georgia-North Carolina hogfish stock in South Atlantic Federal waters will open at 12:01 a.m., local time, on January 1, 2022.

Classification

NMFS issues this action pursuant to section 305(d) of the Magnuson-Stevens Act. This action is required by 50 CFR 50 CFR 622.193(u)(1)(i)(A), which was issued pursuant to section 304(b) of the Magnuson-Stevens Act, and is exempt from review under Executive Order 12866.

Pursuant to 5 U.S.C. 553(b)(B), the NMFS Assistant Administrator (AA) finds good cause to waive prior notice and an opportunity for public comment on this action, as notice and comment are unnecessary and contrary to the public interest. Such procedures are unnecessary because the rule that established the commercial ACL and AMs for hogfish has already been subject to notice and comment, and all that remains is to notify the public of the closure. Such procedures are contrary to the public interest because of the need to immediately implement this action to protect the Georgia-North Carolina hogfish stock. The commercial ACL for the Georgia-North Carolina hogfish stock in the South Atlantic has been reached and prior notice and opportunity for public comment would require time, resulting in a harvest well in excess of the established commercial ACL.

For the aforementioned reasons, the AA also finds good cause to waive the 30-day delay in the effectiveness of this action under 5 U.S.C. 553(d)(3).

Authority: 16 U.S.C. 1801 et seq.

Dated: November 5, 2021.
Ngagne Jafnar Gueye,
Acting Director, Office of Sustainable Fisheries, National Marine Fisheries Service.

[FR Doc. 2021-24605 Filed 11-5-21; 4:15 pm]

BILLING CODE 3510-22-P